DEPARTMENT OF COMMERCE

National Oceanic and Atmospheric Administration

50 CFR Part 648

[Docket No. 040112010-4114-02; I.D. 090204D]

Magnuson-Stevens Fishery Conservation and Management Act Provisions; Fisheries of the Northeastern United States; Northeast (NE) Multispecies Fishery; Closure of the Closed Area II (CA II) Yellowtail Flounder Special Access Program (SAP)

AGENCY: National Marine Fisheries Service (NMFS), National Oceanic and Atmospheric Administration (NOAA), Commerce.

ACTION: Closure of CA II Yellowtail Flounder SAP for fishing year 2004.

SUMMARY: NMFS announces that the Administrator, Northeast Region, NMFS (Regional Administrator), is closing the CA II Yellowtail Flounder SAP to all NE multispecies days-at-sea (DAS) vessels, effective September 3, 2004. Vessels that have not yet departed on a trip to fish in the SAP as of September 3, 2004, may not begin a trip into the SAP.

DATES: Effective September 3, 2004, through April 30, 2005.

FOR FURTHER INFORMATION CONTACT: Thomas Warren, Fishery Policy Analyst, (978) 281-9347, fax (978) 281-9135, e-mail Thomas.Warren@NOAA.gov.

SUPPLEMENTARY INFORMATION: Regulations governing the CA II Yellowtail Flounder SAP are found at 50 CFR 648.85(b)(3). The regulations authorize vessels issued a valid limited access NE multispecies DAS permit to participate in the CA II Yellowtail Flounder SAP and to fish in the CA II Yellowtail Flounder Access Area, under specific conditions. Unless otherwise authorized by the Regional Administrator, eligible vessels are restricted to two trips per month into the SAP, and the maximum total number of trips allowed into the SAP by all NE multispecies vessels combined is 320 trips for fishing year 2004. The Regional Administrator is authorized by § 648.85(a)(3)(iv)(D) to modify certain regulations pertaining to the U.S./Canada Management Area in order to prevent over-harvesting or under-harvesting of the yellowtail flounder total allowable catch, including the number of total trips allowed into this SAP. The Regional Administrator, based upon Vessel Monitoring System reports and other available information, has determined that 320 trips into the SAP have been taken and that, according to the regulations, no additional NE multispecies DAS vessels may depart port to begin a trip into the CA II Yellowtail Flounder SAP.

Classification

This action is required by 50 CFR part 648 and is exempt from review under Executive Order 12866.

Authority: 16 U.S.C. 1801 et seq.

Dated:September 2, 2004.
Alan D. Risenhoover,
Acting Director, Office of Sustainable Fisheries, National Marine Fisheries Service.

[FR Doc. 04-20423 Filed 9-3-04; 2:49 pm]

BILLING CODE 3510-22-S